DEPARTMENT OF ENERGY

Federal Energy Regulatory Commission

Combined Notice of Filings

Take notice that the Commission has received the following Natural Gas Pipeline Rate and Refund Report filings:

Docket Numbers: RP17-913-005.

Applicants: Natural Gas Pipeline Company of America.

Description: Compliance filing Natural's Cost and Revenue Study Filing in Compliance with Docket No. RP17-913.

Filed Date: 6/1/21.

Accession Number: 20210601-5079.

Comments Due: 5 p.m. ET 6/14/21.

Docket Numbers: RP21-866-000.

Applicants: Maritimes & Northeast Pipeline, L.L.C.

Description: § 4(d) Rate Filing: Negotiated Rate—Maine Natural 210257 Release eff 6-1-2021 to be effective 6/1/2021.

Filed Date: 6/1/21.

Accession Number: 20210601-5004.

Comments Due: 5 p.m. ET 6/14/21.

Docket Numbers: RP21-867-000.

Applicants: Cheniere Corpus Christi Pipeline, LP.

Description: Compliance filing CP12-508-000—Corpus Christi Pipeline's Cost and Revenue Study.

Filed Date: 6/1/21.

Accession Number: 20210601-5006.

Comments Due: 5 p.m. ET 6/14/21.

Docket Numbers: RP21-868-000.

Applicants: Algonquin Gas Transmission, LLC.

Description: § 4(d) Rate Filing: Negotiated Rates—Various Releases eff 6-1-2021 to be effective 6/1/2021.

Filed Date: 6/1/21.

Accession Number: 20210601-5007.

Comments Due: 5 p.m. ET 6/14/21.

Docket Numbers: RP21-869-000.

Applicants: Equitrans, L.P.

Description: § 4(d) Rate Filing: Negotiated Rate Capacity Release Agreements—6/1/2021 to be effective 6/1/2021.

Filed Date: 6/1/21.

Accession Number: 20210601-5035.

Comments Due: 5 p.m. ET 6/14/21.

Docket Numbers: RP21-870-000.

Applicants: Gulf South Pipeline Company, LLC.

Description: § 4(d) Rate Filing: Cap Rel Neg Rate Agmts (Marathon 51753, 51754 to Spire 54108, 54107) to be effective 6/1/2021.

Filed Date: 6/1/21.

Accession Number: 20210601-5041.

Comments Due: 5 p.m. ET 6/14/21.

Docket Numbers: RP21-871-000.

Applicants: Gulf South Pipeline Company, LLC.

Description: § 4(d) Rate Filing: Amendments to Neg Rate Agmts (Aethon 53154, 52454) to be effective 6/1/2021.

Filed Date: 6/1/21.

Accession Number: 20210601-5042.

Comments Due: 5 p.m. ET 6/14/21.

Docket Numbers: RP21-872-000.

Applicants: Gulf South Pipeline Company, LLC.

Description: § 4(d) Rate Filing: Cap Rel Neg Rate Agmt (Constellation 54074 to Exelon 54109) to be effective 6/1/2021.

Filed Date: 6/1/21.

Accession Number: 20210601-5043.

Comments Due: 5 p.m. ET 6/14/21.

Docket Numbers: RP21-873-000.

Applicants: Equitrans, L.P.

Description: § 4(d) Rate Filing: Remove Expired Negotiated Rate Agreements—6/1/2021 to be effective 6/1/2021.

Filed Date: 6/1/21.

Accession Number: 20210601-5044.

Comments Due: 5 p.m. ET 6/14/21.

Docket Numbers: RP21-874-000.

Applicants: Transcontinental Gas Pipe Line Company, LLC.

Description: § 4(d) Rate Filing: Negotiated Rates—Cherokee AGL—Replacement Shippers—Jun 2021 to be effective 6/1/2021.

Filed Date: 6/1/21.

Accession Number: 20210601-5045.

Comments Due: 5 p.m. ET 6/14/21.

Docket Numbers: RP21-875-000.

Applicants: Questar Southern Trails Pipeline Company.

Description: Annual Fuel Gas Reimbursement Report of Questar Southern Trails Pipeline Company.

Filed Date: 6/1/21.

Accession Number: 20210601-5047.

Comments Due: 5 p.m. ET 6/14/21.

Docket Numbers: RP21-876-000.

Applicants: Texas Eastern Transmission, LP.

Description: § 4(d) Rate Filing: Negotiated Rates—Releases eff 6-01-2021 to be effective 6/1/2021.

Filed Date: 6/1/21.

Accession Number: 20210601-5048.

Comments Due: 5 p.m. ET 6/14/21.

Docket Numbers: RP21-877-000.

Applicants: Eastern Shore Natural Gas Company.

Description: § 4(d) Rate Filing: Fuel Retention & Cash-Out Adjustment 2021 to be effective 7/1/2021.

Filed Date: 6/1/21.

Accession Number: 20210601-5049.

Comments Due: 5 p.m. ET 6/14/21.

Docket Numbers: RP21-878-000.

Applicants: Enable Gas Transmission, LLC.

Description: § 4(d) Rate Filing: Negotiated Rate Filing—June 1, 2021 BP to be effective 6/1/2021.

Filed Date: 6/1/21.

Accession Number: 20210601-5050.

Comments Due: 5 p.m. ET 6/14/21.

Docket Numbers: RP21-879-000.

Applicants: East Tennessee Natural Gas, LLC.

Description: § 4(d) Rate Filing: Negotiated Rates—Releases eff 6-1-2021 to be effective 6/1/2021.

Filed Date: 6/1/21.

Accession Number: 20210601-5052.

Comments Due: 5 p.m. ET 6/14/21.

Docket Numbers: RP21-880-000.

Applicants: NEXUS Gas Transmission, LLC.

Description: § 4(d) Rate Filing: Negotiated Rates—Various Releases eff 6-1-2021 to be effective 6/1/2021.

Filed Date: 6/1/21.

Accession Number: 20210601-5057.

Comments Due: 5 p.m. ET 6/14/21.

Docket Numbers: RP21-881-000.

Applicants: White River Hub, LLC.

Description: Annual Fuel Gas Reimbursement Report of White River Hub, LLC.

Filed Date: 6/1/21.

Accession Number: 20210601-5148.

Comments Due: 5 p.m. ET 6/14/21.

Docket Numbers: RP21-882-000.

Applicants: Equitrans, L.P.

Description: Compliance filing Notice Regarding Non-Jurisdictional Gathering Facilities (PEG-1 -2 -3 -4 -164).

Filed Date: 6/1/21.

Accession Number: 20210601-5154.

Comments Due: 5 p.m. ET 6/14/21.

Docket Numbers: RP21-883-000.

Applicants: Enable Mississippi River Transmission, LLC.

Description: § 4(d) Rate Filing: Negotiated Rate Filing—6.1.2021 to be effective 6/1/2021.

Filed Date: 6/1/21.

Accession Number: 20210601-5158.

Comments Due: 5 p.m. ET 6/14/21.

Docket Numbers: RP21-884-000.

Applicants: Alliance Pipeline L.P.

Description: § 4(d) Rate Filing: Negotiated Rates—Various June 1 Capacity Releases to be effective 6/1/2021.

Filed Date: 6/1/21.

Accession Number: 20210601-5184.

Comments Due: 5 p.m. ET 6/14/21.

Docket Numbers: RP21-885-000.

Applicants: Maritimes & Northeast Pipeline, L.L.C.

Description: § 4(d) Rate Filing: Negotiated Rates—Various Releases eff 6-1-2021 to be effective 6/1/2021.

Filed Date: 6/1/21.

Accession Number: 20210601-5268.

Comments Due: 5 p.m. ET 6/14/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2021.
Debbie-Anne A. Reese,
Deputy Secretary.

[FR Doc. 2021-12251 Filed 6-10-21; 8:45 am]

BILLING CODE 6717-01-P